DEPARTMENT OF JUSTICE

Antitrust Division

Notice Pursuant to the National Cooperative Research and Production Act of 1993; Aerospace Vehicle Systems Institute (“AVSI”) Cooperative

Notice is hereby given that, on September 21, 1999, pursuant to section 6(a) of the National Cooperative Research and Production Act of 1993, 15 U.S.C. 4301 et seq. (“the Act”), Aerospace Vehicle Systems Institute (“AVSI”) Cooperative has filed written notifications simultaneously with the Attorney General and the Federal Trade Commission disclosing changes in its membership status. The notifications were filed for the purpose of extending the Act's provisions limiting the recovery of antitrust plaintiffs to actual damages under specified circumstances. Specifically, Hamilton Standard Division of United Technologies Corporation and Sunstrand Corporation have merged to form Hamilton Sunstrand Division of United Technologies Corporation, Windsor Locks, CT. Additionally, the AVSI Cooperative intends to work on the following joint research projects:

Systems Engineering and Information Management—To evaluate and develop systems engineering and information management processes and tools to be used at the aerospace vehicle and subsystem level for the efficient, industry-wide communication of requirements and configuration management information.

Certification Cost Minimization—To evaluate and recommend new standard industry-wide processes and guidelines for both design and compliance methods for aerospace vehicle electrical equipment hardware and software that will minimize both initial and subsequent qualification and certification costs and cycle times.

Defining Real Operating Environments—To establish aerospace vehicle system local environmental operating conditions to allow refinement of design requirements for subsystems, electrical and hardware components.

Rapid Prototyping Tools for Flight Deck Display Systems—To produce a common development process and associated interface standards to allow rapid prototyping of flight deck and cockpit display concepts and to efficiently transition these concepts into avionics systems.

Systems Bus Study—To determine whether a new databus technology should be developed for application to commercial aircraft and to evaluate the appropriate level of technologies needed in a new databus.

No other changes have been made in either the membership or planned activity of the group research project. Membership in this group research project remains open, and Aerospace Vehicle Systems Institute (“AVSI”) Cooperative intends to file additional written notification disclosing all changes in membership.

On November 18, 1998, Aerospace Vehicle Systems Institute (“AVSI”) Cooperative filed its original notification pursuant to section 6(a) of the Act. The Department of Justice published a notice in the Federal Register pursuant to section 6(b) of the Act on February 18, 1999 (64 FR 8123).

Constance K. Robinson,
Director of Operations, Antitrust Division.

[FR Doc. 00-6957 Filed 3-20-00; 8:45 am]

BILLING CODE 4410-11-M